DEPARTMENT OF TRANSPORTATION

Federal Aviation Administration

14 CFR Part 39

[Docket No. FAA-2008-0331; Directorate Identifier 2008-CE-009-AD; Amendment 39-15569; AD 2008-13-06]

RIN 2120-AA64

Airworthiness Directives; Cessna Aircraft Company Models 208 and 208B Airplanes

AGENCY: Federal Aviation Administration (FAA), DOT.

ACTION: Final rule.

SUMMARY: The FAA adopts a new airworthiness directive (AD) for certain Cessna Aircraft Company (Cessna) Models 208 and 208B airplanes. This AD requires you to inspect the left and right wing wire bundle(s) and repair or replace damaged wire. This AD also requires inspecting the wire bundles for correct attachment to the anchor points and correcting any deficient attachments. This AD results from chafed wiring found on wire bundles in the left and right wings containing the auto-control wing de-ice system, fuel quantity indication, and low fuel annunciation on the Cessna 208B airplanes. Improper installation of wire bundle supporting hardware can cause chafed wiring in the affected bundles. We are issuing this AD to detect and correct damaged wiring of the auto-control wing de-ice system, fuel quantity indication, and low fuel annunciation systems. This condition could result in incorrect fuel quantity indications, loss of low fuel quantity annunciations, or loss of the autocontrol wing de-ice system.

DATES: This AD becomes effective on July 30, 2008.

On July 30, 2008, the Director of the Federal Register approved the incorporation by reference of certain publications listed in this AD.

ADDRESSES: To get the service information identified in this AD, contact Cessna Aircraft Company, One Cessna Boulevard, P.O. Box 7706, Wichita, KS 67277-7704; telephone: (316) 517-5800; fax: (316) 942-9006.

To view the AD docket, go to U.S. Department of Transportation, Docket Operations, M-30, West Building Ground Floor, Room W12-140, 1200 New Jersey Avenue, SE., Washington, DC 20590, or on the Internet at http://www.regulations.gov. The docket number is FAA-2008-0331; Directorate Identifier 2008-CE-009-AD.

FOR FURTHER INFORMATION CONTACT: Daniel Hilton, Aerospace Engineer, 1801 Airport Road, Room 100, Wichita, Kansas 67209; telephone: (316) 946-4173; fax: (316) 946-4107.

SUPPLEMENTARY INFORMATION:

Discussion

On March 11, 2008, we issued a proposal to amend part 39 of the Federal Aviation Regulations (14 CFR part 39) to include an AD that would apply to certain Cessna Model 208 and 208B airplanes. This proposal was published in the Federal Register as a notice of proposed rulemaking (NPRM) on March 17, 2008 (73 FR 14191). The NPRM proposed to detect and correct damaged wiring of the auto-control wing de-ice system, fuel quantity indication, and low fuel annunciation systems.

Comments

We provided the public the opportunity to participate in developing this AD. The following presents the comments received on the proposal and FAA's response to each comment:

Comment Issue: Allow More Time for Service Bulletin

The Aircraft Owners and Pilots Association (AOPA) comments that they believe the issuance of an AD on the wiring bundles of the Cessna 208 is premature. The AOPA comments that it believes a service bulletin is an effective way to correct the wiring bundle issues, and FAA should have allowed more time for the service bulletin, dated February 4, 2008, to be distributed to Cessna 208 owners and mechanics. The commenter adds that if after a reasonable amount of time the service bulletin is not appropriately addressing the safety concern, then the FAA could issue a special airworthiness information bulletin (SAIB) or an AD.

We do not concur with the AOPA comment. Mandatory service bulletins and their process thereof do not constitute rulemaking for owners/operators to complete the requested action. The only enforceable process to assure that the unsafe condition is properly addressed on all aircraft is through the rulemaking process, in this case an AD.

We are making no changes to the final rule based on this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 512 airplanes in the U.S. registry.

We estimate the following costs to do the inspection:

Labor cost | Parts cost | Total cost per airplane | Total cost on U.S. operators
1 work-hour × $80 per hour = $80 | Not Applicable | $80 | $40,960

We estimate the following costs to do any necessary repairs that would be required based on the results of the inspection. We have no way of determining the number of airplanes that may need this repair/replacement:

Labor cost | Parts cost | Total cost per airplane
1 work-hour × $80 per hour = $80 | $10 | $90

Warranty credit will be given to the extent specified in Cessna Aircraft Company Service Bulletin CAB08-2, dated February 4, 2008.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-0331; Directorate Identifier 2008-CE-009-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2008-13-06 Cessna Aircraft Company: Amendment 39-15569; Docket No. FAA-2008-0331; Directorate Identifier 2008-CE-009-AD.

Effective Date

(a) This AD becomes effective on July 30, 2008.

Affected ADs

(b) None.

Applicability

(c) This AD applies to the following airplane models and serial numbers that are certificated in any category:

Models | Serial Nos.
208 | 20800001 through 20800415.
208B | 208B0001 through 208B1299.

Unsafe Condition

(d) This AD results from reports of chafed wiring found on wire bundles in the left and right wings containing the auto-control wing de-ice system, fuel quantity indication, and low fuel annunciation on several Cessna Model 208B airplanes. We are issuing this AD to detect and correct damaged wiring of the auto-control wing de-ice system, fuel quantity indication, and low fuel annunciation systems. This condition, if not corrected, could result in incorrect fuel quantity indications, loss of low fuel quantity annunciations, or loss of the auto-control wing de-ice system.

Compliance

(e) To address this problem, you must do the following, unless already done:

Actions | Compliance | Procedures
(1) Inspect the left and right wing electrical wire bundles at the anchor attach points for loose and damaged wiring | Within the next 200 hours time-in-service after July 30, 2008 (the effective date of this AD) or within 12 months after July 30, 2008 (the effective date of this AD), whichever comes first | Follow Cessna Aircraft Company Service Bulletin CAB08-2, dated February 4, 2008.
(2) If, as a result of the inspection required by paragraph (e)(1) of this AD, damaged wires are found, repair or replace damaged wires and properly attach wire bundle | Before further flight after the inspection required by paragraph (e)(1) of this AD | Follow Cessna Aircraft Company Service Bulletin CAB08-2, dated February 4, 2008.
(3) If, as a result of the inspection required by paragraph (e)(1) of this AD, loosely attached wires were found, secure any wires that are loosely attached and properly attach wire bundle supporting hardware | Before further flight after the inspection required by paragraph (e)(1) of this AD | Follow Cessna Aircraft Company Service Bulletin CAB08-2, dated February 4, 2008.

Alternative Methods of Compliance (AMOCs)

(f) The Manager, Wichita Aircraft Certification Office (ACO), FAA, has the authority to approve AMOCs for this AD, if requested using the procedures found in 14 CFR 39.19. Send information to ATTN: Daniel Hilton, Aerospace Engineer, FAA, Wichita ACO, 1801 Airport Road, Room 100, Wichita, Kansas 67209; telephone: 316-946-4173; e-mail address: daniel.hilton@faa.gov. Before using any approved AMOC on any airplane to which the AMOC applies, notify your appropriate principal inspector (PI) in the FAA Flight Standards District Office (FSDO), or lacking a PI, your local FSDO.

Material Incorporated by Reference

(g) You must use Cessna Aircraft Company Service Bulletin CAB08-2, dated February 4, 2008, to do the actions required by this AD, unless the AD specifies otherwise.

(1) The Director of the Federal Register approved the incorporation by reference of this service information under 5 U.S.C. 552(a) and 1 CFR part 51.

(2) For service information identified in this AD, contact Cessna Aircraft Company, One Cessna Boulevard, P.O. Box 7706, Wichita, KS 67277-7704; telephone: (316) 517-5800; fax: (316) 942-9006.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on June 10, 2008.
Kim Smith,
Manager, Small Airplane Directorate, Aircraft Certification Service.

[FR Doc. E8-13564 Filed 6-24-08; 8:45 am]

BILLING CODE 4910-13-P